DEPARTMENT OF THE INTERIOR

Bureau of Land Management

[NM-120-06-1610-AL]

Notice of Availability (NOA) of the Socorro Draft Resource Management Plan Revision and Draft Environmental Impact Statement (DRMPR/DEIS), New Mexico

AGENCY: Bureau of Land Management, Interior.

ACTION: Notice of Availability.

SUMMARY: In compliance with the National Environmental Policy Act of 1969 (42 U.S.C. 4321 et seq.), the Federal Land Policy and Management Act of 1976 (FLPMA) (43 U.S.C. 1701 et seq.), and Bureau of Land Management (BLM) planning regulations, the BLM hereby gives notice that the Socorro DRMPR/DEIS is available for public review and comment.

DATES: To ensure that they will be considered, BLM must receive written comments on the DRMPR/DEIS within 90 days following the date the Environmental Protection Agency publishes its NOA in the Federal Register. The BLM will announce future meetings or hearings and any other public involvement activities at least 15 days in advance through public notices, local media, and/or mailings.

ADDRESSES: Written comments may be mailed to Socorro Field Office, Attention: Brian Bellew, 901 S. Highway 85, Socorro, New Mexico 87801. You may also comment via e-mail at: Brian_Bellew@nm.blm.gov; or by fax at (505) 835-0223. Comments that are e-mailed or faxed must include “Comments on Draft RMPR/DEIS” in the subject line. You may also hand deliver comments to the address listed above. A minimum of two public meetings will be held during the 90-day public review and comment period during which oral comments will be accepted and recorded. Exact dates, places, and times of public meetings will be posted on the New Mexico BLM web page (http://www.nm.blm.gov) and advertised in local media.

Individual respondents may request confidentiality. Before including your address, phone number, e-mail address, or other personal identifying information in your comment, be advised that your entire comment—including your personal identifying information—may be made publicly available at any time. While you can ask us in your comment to withhold from public review your personal identifying information, we cannot guarantee that we will be able to do so. All submissions from organizations and businesses, and from individuals identifying themselves as representatives or officials of organizations or businesses, will be available for public inspection in their entirety.

FOR FURTHER INFORMATION CONTACT: Brian Bellew, Planning Team Leader, at the Socorro Field Office (see address above), telephone (505) 838-1273.

SUPPLEMENTARY INFORMATION: The planning area encompasses all lands, regardless of jurisdiction, within Socorro and Catron counties, New Mexico totaling 8.7 million acres. A map of the planning area is available on the Web site (http://www.nm.blm.gov). The decision area for the DRMPR/DEIS includes 1.5 million acres of BLM-administered public lands and 6.1 million acres of Federal mineral estate located in both counties.

The DRMPR/DEIS describes the physical, cultural, historic, and socioeconomic resources in and around the planning area and documents the direct, indirect, and cumulative environmental impacts of four alternatives for BLM-administered lands and resources within the planning area. The impact analysis focuses on resource issues and concerns identified during scoping and public involvement activities. Issues identified during scoping (not in priority order) include areas of special designation, soil and vegetation conditions, energy development, transportation and access, land use, and recreation and heritage tourism opportunities.

Four alternatives were analyzed in detail. The No-Action Alternative, Alternative A represents the continuation of existing management, which is defined by the 1989 Socorro RMP and subsequent amendments. Alternative B, BLM's preferred alternative, proposes managing the public lands for multiple uses and sustaining the health, diversity, and productivity of the lands for present and future generations. Alternative C emphasizes resource protection, while Alternative D emphasizes commodity production and use while still complying with applicable law, regulation, and BLM policy. Within all alternatives, Areas of Critical Environmental Concern (ACECs) have been identified to protect resources. These ACECs and associated acreages are listed in the table below. More detailed management prescriptions in these areas are provided in Table 2-2 of the DRMPR/DEIS.

Acres of BLM-Managed Surface Estate Proposed To Be Managed as ACECs Under the Alternatives in the DRMPR/DEIS
ACEC use limitations | Alternative A | Preferred alternative (Alternative B) | Alternative C | Alternative D
Agua Fria | 9,571 | Incorporate into Cerro Pomo ACEC | Incorporate into Zuni Salt Lake ACEC | Eliminate.
Cerro Pomo: Limit motor vehicle travel to designated routes. Exclude ROW. Apply fluid mineral leasing stip. S-VRM-11 |  | 26,284 | Incorporate into Zuni Salt Lake ACEC | 449.
Horse Mountain: Limit motor vehicle travel to designated routes. Exclude ROW. Apply fluid mineral leasing stip. S-NSO-W. Exclude vegetative material sales. Exclude grazing on unalloted lands | 7,490 | 5388 | 5388 | 2596.
Ladron Mountain-Devil's Backbone Complex: Limit motor vehicle travel to designated routes. Exclude ROW. Apply fluid mineral leasing stip. S-NSO-W. Exclude grazing on unalloted lands. Withdraw from location and entry for locatable minerals on 23,567 for protection of desert bighorn sheep. Exclude vegetative material sales from San Lorenzo Canyon (2320 acres) | 57,195 | 57,474 | 57,474 | 20,155.
Mockingbird Gap: Limit motor vehicle travel to designated routes, apply fluid mineral leasing stip. S-CSU-C3 |  | 8,685 | 8,685 |
Pelona Mountain: Limit motor vehicle travel to designated routes. Exclude ROW. Apply fluid mineral leasing stip S-CSU-W1 and S-VRM-11 |  | 51,091 | 52,336 | 34,547.
Sawtooth: Limit motor vehicle travel to designated routes. Exclude ROW. Apply fluid mineral leasing stip S-NSO-T&E. Maintain withdrawal from mineral entry. Exclude vegetative material sales | 125 | 125 | 125 | 125.
Tinajas: Limit motor vehicle travel to designated routes. Exclude ROW. Exclude mineral material disposals and mineral leasing | 3,463 | 40 | 6745 | 22.
Zuni Salt Lake: Limit motor vehicle travel to designated routes. Exclude fluid mineral leasing. Withdraw locatable minerals on 2881 acres of federal mineral estate within the 4839 acre Zuni Salt Lake Protection Zone. Exclude ROW within the 4839 acre Zuni Salt Lake Protection Zone. Exclude woodcutting | Managed as a 4,839-acre special management area | 46,746 | 156,601 | 2107.
Total Acres | 77,844 | 195,833 | 287,354 | 68,686.

Since the publication of the Notice of Intent to prepare an RMPR/EIS in the Federal Register on May 8, 2002, scoping meetings, off-highway vehicle workshops, and mailings have been conducted to inform the public and solicit input. Three scoping meetings were held in Socorro, Quemado, and Zuni, New Mexico on August 27, 28, and 29, 2002, respectively, resulting in approximately 76 oral comments from the public. In addition, 214 letters and comment forms were received during the scoping period. Catron County and the Zuni Tribe are cooperating agencies for development of the RMPR/EIS.

The Socorro DRMPR/DEIS is available for review via the Internet from a link at http://www.nm.blm.gov and in electronic (on CD-ROM) and paper format at the BLM, Socorro Field Office. Electronic (on CD-ROM) and paper copies may also be obtained by contacting Brian Bellew at the aforementioned address and phone number.

Dated: January 30, 2007.
Jesse J. Juen,
Associate State Director.

[FR Doc. E7-7020 Filed 4-13-07; 8:45 am]

BILLING CODE 4310-FB-P